DEPARTMENT OF COMMERCE

Bureau of Industry and Security

Announcement of Performance Review Board Members

AGENCY: Bureau of Industry and Security, Department of Commerce.

ACTION: Notice.

SUMMARY: 5 CFR 430.310 requires agencies to publish notice of Performance Review Board appointees in the Federal Register before their service begins. This notice announces the names of the members of the Bureau of Industry and Security's Performance Review Board.

FOR FURTHER INFORMATION CONTACT: Gay Shrum, Director of Administration, Bureau of Industry and Security, at (202) 482-1058, Room 6622, Washington, DC 20230.

SUPPLEMENTARY INFORMATION: The purpose of the Performance Review Board is to review and make recommendations to the appointing authority on performance management issues such as appraisals, bonuses, pay level increases, and Presidential Rank Awards for members of the Senior Executive Service.

The Acting Under Secretary for Industry and Security, Mark Foulon, has named the following executives to be appointed to the Bureau of Industry and Security Performance Review Board:

1. Matthew Borman, Deputy Under Secretary for Export Administration (new).

2. Wendy Wysong, Deputy Under Secretary for Export Enforcement (new).

3. Dawn Leaf, Chief Information Officer (new).

4. Gay Shrum , Director of Administration (new).

5. John Phalen, Director, Office of Management and Organization, Department of Commerce (Outside Reviewer new).

Dated: September 15, 2006.
Mark Foulon,
Acting Under Secretary for Industry and Security.

[FR Doc. 06-7934 Filed 9-20-06; 8:45 am]

BILLING CODE 3510-33-P